DEPARTMENT OF HOMELAND SECURITY

U.S. Customs and Border Protection

[CBP Dec. 25-07]

Tuna Tariff-Rate Quota for Calendar Year 2025 for Tuna Classifiable Under Subheading 1604.14.22, Harmonized Tariff Schedule of the United States (HTSUS)

AGENCY: U.S. Customs and Border Protection, Department of Homeland Security.

ACTION: Announcement of the quota quantity for tuna in airtight containers for Calendar Year 2025.

SUMMARY: Each year, the tariff-rate quota for tuna described in subheading 1604.14.22, Harmonized Tariff Schedule of the United States (HTSUS), is calculated as a percentage of the tuna in airtight containers entered, or withdrawn from warehouse, for consumption during the preceding calendar year. This document sets forth the tariff-rate quota for Calendar Year 2025.

DATES: The 2025 tariff-rate quota is applicable to tuna in airtight containers entered, or withdrawn from warehouse, for consumption during the period January 1, 2025 through December 31, 2025.

FOR FURTHER INFORMATION CONTACT: Julia Peterson, Chief, Quota and Agriculture Branch, Interagency Collaboration Division, Trade Policy and Programs, Office of Trade, U.S. Customs and Border Protection, Washington, DC 20229-1155, at (202) 384-8905 or by email at HQQUOTA@cbp.dhs.gov.

SUPPLEMENTARY INFORMATION:

Background

It has been determined that 16,188,319 kilograms of tuna in airtight containers may be entered, or withdrawn from warehouse, for consumption during Calendar Year 2025, at the rate of 6.0 percent ad valorem, under subheading 1604.14.22, Harmonized Tariff Schedule of the United States (HTSUS). Any such tuna which is entered, or withdrawn from warehouse, for consumption during the current calendar year in excess of this quota will be dutiable at the rate of 12.5 percent ad valorem, under subheading 1604.14.30, HTSUS.

Dated: June 18, 2025.
Susan S. Thomas,
Acting Executive Assistant Commissioner, Office of Trade.

[FR Doc. 2025-11472 Filed 6-20-25; 8:45 am]

BILLING CODE 9111-14-P